DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending March 31, 2018. For purposes of this listing, long-term residents, as defined in section 877(e)(2), are treated as if they were citizens of the United States who lost citizenship.

Last name | First name | Middle name/initials
ABOULKHEIR | YEHIA | S.
ACKER | EDWARD | AMBROSE
ACKERMAN | CHARLES | JOUDREY
AHAMED | AZEEM | AZIZDIN
AHN | KIRI |
AKINER | ALP | AVNI
AKITOMI | KIMITAKA |
AL MUHAIRI | HAMDAN | MUBARAK
ALBANI | DAVIDE | ROBERTO
ALBERTS | MARGARET | THERESE
ALBURY | CHRISTOPHER | BRIAN
ALEXANDER | JOAN | PRUDENCE
ALFADLI | ILHAM |
ALFORD | WILLIAM | DAVID
ALLEGRETTI | JOHN | MICHAEL
ALLEMANN | FRANZISKA | RUTH
ALLEN | PAMELA | CLAIRE
ALMOALLIM | MOHAMED | MAZIN
AL-NOWAISER | ROWAIDH | ESSA ABDULLAH
AL-QURASHI | MUHAMMAD | HEMAID
ALSTON | JENNY | GWYN
ALTHAUS | STEFANIE | IRENE
AMBJORN | POLV | HENRI
AMIS | CATHERINE | LAURA
ANDEREGG | CHRISTOPHER | FRANCIS
ANDERSEN | NIELS | ERIC
ANG | JOSHUA | JO-HUA
ANSELIN | JUSTINE | MARIE
ARES | SOPHIE | MARIE ROLLANDE
ARIEL | DAKEN |
ARINAMI | PETER | KOJI
ARIS | ANGELA | KATHRYN
ASCHBERGER | YELENA |
ASHORN | PER | ALLAN ILMARI
ASHURST | DAVID | ALLEN
ASHWORTH | DIANE | GAY
ATHER | MOHAMMED | AYYAN
AVRAMOFF | VIVIENNE |
BAER | YUVAL | RAHAMIN
BAILEY | CHASE | ELL
BAKER | RAYMOND | N.
BAKER | ROBERT | KYLE
BAKERMAN | LEE | EVAN
BAL | PARVESH | KAUR
BALDINI | VERA | VANNA
BALDWIN | BARROW | WINDLEY
BALDWIN | JULIA | ANNE
BALLU | SOLANGE | ANNE DONOHUE
BANAI | NIMROD |
BANTOURAKIS | YIANNA | LILIANE
BARANDUN | ROMINA |
BARTLE | GREGORY | KWAKU
BASCHUNG DANDLIKER | ANITA | CHRISTINE
BASSANINI | KRIZIA | VALERIE
BATA | CHARLOTTE | ISABELLE CLAIRE
BATA | THOMAS | ARCHER
BAUMANN | MARCEL |
BAXTER | JONATHON | MARK
BEAUCHEMIN | EDWARD | JOHN
BEAUMAN | MARY | ELIZABETH
BECKER-VON HAUSEGGER | SALLY | DAWSON
BEER | DANIEL | JAMES
BEHKI | RAMA | RANI
BEISSEL VON GYMNICH | JEANNETTE | GRAEFIN
BEIVERS | BENJAMIN |
BELCHER | TIMOTHY | JAMES
BELLISSIMO | RADKA |
BENAN | MATTI | ELHANAN
BENGTSSON | MAX |
BERENDZEN | KENNETH | WAYNE
BERRINGER | JAY | DAVID
BERTI | ADRIANA |
BEZEMER | HENK |
BIRCH | NIGEL | TARO
BIRD | DAVID | WALTER
BIRD | TANYAMAS | C.
BISHOP | DOROTHY | ANN
BLACK | DONALD | CAMERON
BODIN | MOREL |
BOL-GROOTENHUIS | ALEXANDRA |
BOLLIGER | LAURA | MARY
BONFORTE | SIOUX |
BOOIJ | JENNIFER | JIYOUNG
BORRELLI | MARY | ANNA
BOSS | DORIS | URSULA
BOURJAILY | DALE | ANN CATHERINE
BOYD | JAMES | ALEXANDER
BOYES | PATTIE | ALETHA
BOYLAN | CARRIE | LYNN
BRACH | ZACHARY | ALEXANDER
BRADLEY | BENJAMIN | DAVID JAMES
BRANDLEY | MELANIE |
BRAS | JESSICA | VIEIRA
BRENNAN-MCBRIDE | VANESSA | MARIE
BRENTA | ROBERTO | GIACOMO
BRERETON | SIMON |
BRIN | SHIRLEY | DIANA
BRINKERHOFF | CHARLES | RICHARD
BRINTRUP | JON | ENRIQUE
BROCCO | NAAMAH | LEAH
BRODBECK | THOMAS | DANIEL
BRONNIMANN | AMANDA | GABRIELA
BROOKS | SHADRIN | MCKENNA
BROWN | DAVID | ANDREW
BROWN | DOUGLAS | JOHN AIRLIE
BROWN | KATHERINE | MARION
BRUECKNER | GABRIELE |
BRUMFIELD | STEVEN | JOSEF
BUCKNALL | KRISTEN | STEPHANIE
BULT | THOMAS | JOHN
BURNHAM | OLYMPIA |
BUSCHMANN | MARINUS | JOSEPH ELISABETH
CAINE | CHRISTIAAN | EDWARD
CAINE | TESSA | JANNEKE
CALSY | ADRIANNE | MARGARET
CAMPBELL | JANIS | PAULA
CAMPBELL | LOUISE | ADELLA
CAMPBELL | ROWYN | GRACE
CANNON | RANN | ROBERT
CAREY | ELOISE | ALICE VENETIA
CARILLE | TARA | NOELLE
CARLE | CHRISTOPHE | PHILIPPE
CARRINGTON | VANESSA | FAITH
CARROLL | MARSHALL | TODD
CARRUTHERS | SUSAN | L.
CATANZARITI | BETTY | CLAIRE
CAUDET-ROCA | LUCIA | INES
CAVIEZEL | SUSAN | URSULA
CHABERT | MICKAEL |
CHADWICK | TOMAS | IRARRAZAVAL
CHAN | BRENDON | JAMES
CHAN | BRIAN | JOHN
CHAN | JANET | SUE-AN
CHAN | LILY |
CHAN | TAK | FUN
CHANG | LOUISE | CHIA-LIN
CHANG | REI-YUN |
CHANG | TIFFANY | T.N.
CHANRAI | VEENA |
CHAO | ROYAL |
CHAPUISAT | PETER | GILLIAT
CHEN | AMY |
CHENEY | NANCY | KIYONO
CHENG | JONATHAN | TSUN HUNG
CHENG | YU |
CHESTERMAN | KATHLEEN | GRISWOLD
CHIN | ARTHUR | KA-MING
CHING | TUAN | YEOW
CHIPCHASE | JEFFREY | JOHN
CHOI | ESTHER |
CHOI | JASON |
CHOI | JASON | CHEI SUNG
CHOI | WAYNE | CHUNG
CHOWDHURY | SANJOY |
CHRISTIAN | GLENFORD |
CHRISTIAN | MARVA | ELIZABETH
CHRISTOPH | GISELA |
CHRISTOPH | SONJA | R.
CHU | VINCENT | KAM CHIU
CHUA | LUKE |
CHUNG | KAREN | JUI FEN
CITRON | BETTINA |
CLARK | DEBBIE |
CLEEMPUT | RAF |
COHEN | CHANA | ESTER
COHEN | HAVIVA | TZIONA
COHEN | MALKA | PEARL
COHEN | NACHSHON | TZVI
COHEN | YEHEZKEL | SHRAGA
CONNER | GORDON | FRANCIS
CONNER | JOSSELYN | ELLEN
CONTANT | SUSAN | METIA
CONTI-RAMSDEN | FRANCES | INEZ
CONTRERAS | CARMEN | ADELA
COOPER | JENNIFER | ANNE
COOPER SUTTON | ZOE | Q.
CORRIVEAU | STEVEN | REJEAN
COTTICA | LORENZO | CARLO
COVEY | ELIZABETH | ANN
COWLING | SARAH | ALICE
COWLISHAW | MARK | CARY
CRACCO | ROLAND | FRANCOIS
CROAN | SUSAN | CLAYTON
CROTTY | JEFFREY | PATRICK
CUESTA | INES | MARIA CREEL
CUILLE | GILLES | EMILE JEAN-JACQUES
CUTTELOD | THERESE | CELINE
DALSNES | NILS | KRISTIAN
DALTON | ABIGAIL | MARY
DANIELS | DAYNA | BETH
DAUGHERTY | DUANE | WILLIAM
DAVIDOW | JOSHUA | MAX
DAVIES | MARTIN | CHRISTOPHER
DAVIS | MARC | STEVEN
DAVIS | MARY | ANN
DAVIS | STEVEN |
DAY | GEORGIA | ANN
DAY | SUSAN | LAURIE
DE CHENE | BRENT | EUGENE
DE GRAAF | JULIA | CORRINNE
DE GROOT | SEBASTIAN | MARK
DE JESUS | JAMES | GERARD OSMENA
DE JONG | NICOLE | ALICE
DE JONGHE D'ARDOYE | BEATRICE |
DE LEON | LISA | HARVEY
DE MAN | JAN-FELIX | MATTHIAS
DE MESMAY | PASCALINE | MARIE-EMILIE
DE MONTMARIN | THOMAS | MARIE HUBERT DE MARIN
DE MONTULE | CAROLINE | DU BOIS
DE ROOY | YOLANDA | JULIA
DEL BASSO | MANON | ELEN
DELACRETAZ | STEPHANIE | ELIZABETH
DELACRETAZ-JAUNICH | RACHEL | MARGUERITE
DELSHAD | AMIT |
DEMEL | MILAN |
DENIS | MAURICE | EDWIN
DENNING | DAVID | WEMYSS
DERADO | NADYA | ANITA
DESBAILLETS HAKIMI | ISABELLE | JANE
DEVENPORT | CHANTAL |
DEVORE | MICHELLE | MARINA
DI GIULIO | DEBORAH | HELEN
DIGBY | KATRINA | JACLYN
DILL | NANCY | ELIZABETH
DOBER | ALOIS | JOSEF
DOING | MAREN | KATHLEEN
DONATO | DOMINIQUE | MARIA
DONOHUE | CHANTAL | CLAIRE
DOUGLAS | AMANDA | KIRSTEN
DOUGLAS | KRISTIN | MICHELLE
DOWSETT | SUZANNE | NAOMI
DRAUT | DANIELA | KRISTIN
DRUMMOND | SHELLEY | DENISON
DU BOIS | DEIDRE | MICHELLE
DUGAL | ERIC | PAUL
DUNSER | MARKUS | KARL
DUSINBERRE | MARTIN | WILLIAM
DWYER | DEIRDRE | ANNE TREACY
DYCE | GORDON | RONALD
DYER | CANDACE | CLAIRE
DZIUBA JR | PETER |
EADES | JONATHON | NOEL
EASLEY | ARNOLD | THOMAS
EBNER | BRIGITTE | CLAIRE J.
EDELMAN | GARY | MARK
EDERER | JOERG | PETER
EDLER-GUETTAF | YVONNE |
EDMONDS | DAVID | SHEPHERD
EDRICH | JOCHEN |
EHRISMANN | SEBASTIAN | GREGOR
EL GAMAL | RASHA | ASHRAF
ELLENSON | BARBARA | ELIZABETH
ELLIFF | EDWARD | WILLIAM
ELSASSER | MARCENE | ANN
EMPSON | TANYA | LYNN
ENGLE | LILLI | ANNA
ENGUIX | CARMEN |
EPPLE | PETER | KONRAD
ERBA | DANIELE |
ERBAR | MARCUS |
ERICKSON | VICKI | CARPENTER
ERNST | TALITHA | ANNE
ETCHEBERRY | NICOLAS | SOLARI
ETHIER | RONALD | GILBERT
EVANS | MARK | DOUGLAS
EVENHOUSE | KRISTER | HENRY
FABRIS | DENIS | MIRKO
FABRO | THEODORE | JOSEPH
FAID | REMINGTON | ROBERT
FAKHOURY | LAITH | GHANDI
FALK | BARBARA | ANN
FANTOZZI | ROBERTO | FRANCESCO ANGELO
FATH | MICHEL | WOZIWODZKI
FAULKNER | JENNIFER | JANE
FAWE | JEAN | SIMON ARTHUR JULIEN
FEDAK | MICHAEL | JON
FEINERMAN | SARAH | NORMANDY
FEIST | SEBASTIAN | MICHAEL
FELLING | CHRISTOPHER | JAMES STEWART
FENG | ISAAC | JONATHON
FERNANDEZ-LIEBANA | RAPHAEL | OLIVIER
FERRI | ARNOLD | ALPHONSE
FERRIS | LINDA | RUTH
FICHTNER | BENJAMIN | ANDREAS
FINN | ALICE | LOUISE
FIRESTONE | MICHAL |
FIRLEY | NICOLE |
FISS | ERIC | ALAN
FITZGERALD | MICHELLE | ANN
FITZGERALD | RICHARD |
FLECK | BARBARA |
FLEMING | JOHN | DOUGLAS
FLYNN | PENNY | JEAN
FOKKER | EMILIE | AVELINE
FONG | MAY | WAH
FORTIN | DIANE | MARIE
FORZANI | MICHAEL | JOHN
FOURACRES | PRISCILLA | JEAN
FREEDHOFF | STEPHEN | HART
FREEDMAN | MATTHEW | LEO
FREEMAN | CLICIA | MARIE LUTTI
FRINTS | MARK | WILLEM
FROST | IAN | R.
FROST | JANICE | S.
FRYE | INGE | WILHELMINE
FUNG | MICHELLE | A.
FURNARI | STEVEN | MICHAEL
FURUKAWA | MASARU |
FURUKAWA | YUKIKO |
FUTTERMAN | ELAINE | JUDY
FUYAMA | EDYTHE | CHIE
GAASTRA-BEAUCHEMIN | GWEN | HENRIETTE
GABLER | MELISSA | JANE
GAIER | MARTIN |
GAILY | BRUCE | DONALD
GALARDI | MICHAEL | JAMES
GAMMETER | CHRISTOPH | PETER
GARTNER | HERMAN |
GAVIOLI | MATTEO |
GENE | ANJANETTE | DENISE
GERBAUD | AUGUSTO |
GERBER | SOFIA | MARINA
GHANAYEM | WAEL | ADNAN
GIBSON | ALISON |
GIBSON | SHIRLEY | JEAN
GIERAERTS | CHRISTOPHER | LUCIEN JOSEPH
GIESBRECHT | CONNIE | GAIL
GILBERT | PETER | JAY
GILIBERTO | MARISA | LYNN
GILLES | BRIEUC | GABRIEL TRISTAN
GIN | ROSEMARY |
GJERSTAD | KEVIN | BLAINE
GLIDAI | SYRIL | CINDY
GLOVER | MARY | CATHERINE
GODFREY | THELMA | JOYCE
GOGNIAT | CHANTAL | JANE
GOH | DONNA | MAE
GOLDMUND | MELANIE | JANE
GOODENDAY | MATTHEW | ROGER DAVID
GORMAN | BRIAN | DAVID
GORMAN | CHRISTOPHER | LEE
GOSSIAUX | PAUL |
GRABARKEWITZ-STEIN | MERRIDEE | KAY
GREEN | CHARLES | S.
GREEN | SUMMER |
GREGOIRE | LISA | JANE
GRUDZIEN | KAREN | FELICIA
GULLESTRUP | PETER |
GUMMER | MEGAN | STEPHANIE
GUTERMANN | NATALIA | ELISABETH ANJA
GYGAX-HERSCHKOWITZ | JESSICA | CLAIRE
HAAB | LEONIE | CLAUDINE
HAAN | BARBARA | LOUISE
HAARMANS | ERIC | HENDRIK BERNARD
HABER | ARIEL |
HAIM | DAVID | MARC PEHA
HALDER | SARAH | LEANNE
HALDOUPIS | ANDREAS | JOHN
HALDOUPIS | JONAS |
HALDOUPIS | NIKOLAS |
HALL | DAVID | RICHARD
HALL | HAMILTON |
HALPRIN | NURIT | MAXINE
HAMBUSCH | GERHARD |
HAMILTON | KATHERINE | SANDS FRASER
HAMILTON | WENDY | ELIZABETH
HAN | RACHELLE | HOJUNG
HANNUM | NANCY | OSGOOD
HANSEN | MARK | SILVIN
HARMON | BEN |
HARPER | DOROTHY | EDNA
HARPER | PENNI | JO ANN
HARRINGTON | RACHEL | ANN
HARRIS | PAULA |
HART-BANKS | LOUIS | CHRISTIAN
HARVEY | JOSHUA | MENACHEM
HARVEY | ZACHARY | DOV BER
HASHEM | LINA | ESAM
HASLETT | SCOTT | MITCHELL
HAUPT | MICHAEL | JIMMIE
HAYES | EDWARD | NEAL
HEATON | DON | MICHAEL
HEATON | JENNIFER | MARY
HEDBYS | ANNA | KRISTINA
HEIMDAHL | KENDALL | HEATHER
HELLERSMITH | ROBERT | HENDRIK
HELLSTROM | FRIDA |
HENDERSON | ANDREW | JAMES
HENDRICK | SHONA | TRUDY
HENDRY | JOHN |
HERRING | ANTHONY | MICHAEL
HESS | CHARLES | JEFFERSON
HESTENES | BRITT | MARIE
HILLIS | WENDY | ELLEN
HILLS | BARRETT | DAVIS
HINNEBERG | HARI | HANS
HO | JEFFREY | CHUN WAI
HOERLER | IVAN | ALOIS
HOEVENAARS | ADRIANUS | MARIA GERARDUS M.F.
HOFFMAN | STEVEN | JUSTIN
HOGAN | JEREMY | CHARLES KINGSMILL
HOLENDER | MARNIE | ELLYSE
HOLLSTEIN | MONICA | CARRINGTON
HOLMEN | MARY | JESSICA
HOLMSTROM | NIKLAS | ERIC
HOLZWARTH | JAMES | ANTHONY
HOOKS | MARTIN | ROBERT
HOOPER | SHERRY | MARIE
HORIE | KENJI |
HORWITZ | MICHAEL |
HOSHIZAKI | LISA | MARIE
HOSPER | PEGGY | ERNESTINE
HOUMPHAN | ANDREW | BENJAMIN
HOUMPHAN | PHILENE |
HSIAO | OLIVIA | CHING-CHU
HSU | ERIC |
HUBER | HANS | JUERG DIETRICH
HUBERMAN | JEFFREY | NORMAN
HUGHES | JULIE | ANN
HULICK | MARY | ANN MICHELLE
HYLTON | TRACY | ANN
IGARASHI | KAORI |
ILLI | LINDSAY | ELAINE
ILLI | NICOLA | LOUISE
IRWIN | BENJAMIN | GEORGE
ISSA | GABRIEL | NAOUM
ISSA | NASSER | GEORGES
IVANICK | RAND | ANTUN
IVKOVIC | HEIDI | LISA
IZZO | LUIGI |
JABANOSKI | JEAN | ALICE
JACOBS | GIDEON |
JACOBSON | GREG |
JAEGER | THERESIA | MONIKA
JAFFER | YASMIN | ADIL
JAMES | KEITH | EDWARD
JAMMER | JOSEPH | HERMAN
JANDRISITS | ROSANNE |
JENNINGS | LAWRENCE | CHARLES
JEON | RUELLA |
JETTER | SUSANNE | THERESE
JEWETT | CAROLYN | ANN
JOHANNESSEN | JOAN | BOOTH
JOHNSON | DANIEL | PAUL
JOHNSON | TAMARA | KATHLEEN
JOHNSTON | RAPHAEL |
JONES | JEAN | CONARD
JONES | JILL | VICTORIA
JONES | JULIE | JOANNE MANSER
JONES | KEIANA | OMEICA
JOOS | CHRISTOPHER | MICHEL
JUN | ALEX | SEIMIN
JUN | JIN |
JUON | ERIN |
KAHANA | DORON |
KAISERSHOT | HEIDI | BETTINA
KALLEN | PAUL | WILLEM
KAMBHAM | PRASADA | REDDY
KAMP | ANTON | JAN
KANE | EDWARD | ELIEZER
KANE | JAMES | ARTHUR
KANEKO | MARI |
KANEKO | SETSUKO |
KANG | CHI | HYONG
KATZ | AARON |
KATZ | ESTHER |
KATZMAN | JOYCE | KAREN
KEELER | DOUGLAS | MARK
KEIGHLEY | MATTHEW | JOHN
KEIJZERS | MAARTEN | BRYAN
KELLY | DAVID | ARTHUR
KELLY | SHEELAGH | ANNE
KEMPNER | THERESE | BENEDICTE
KERR | GRAEME | ROBERT
KEYZOR | ALISON | JANE
KHANNA | ANISSA | ADVANI
KHOURY | KHALIL | NABIH
KIFT | NATHAN | P.
KIGHT | PAUL | RICHARD
KILBOURN | BARBARA | CROOKS
KILBOURN | BRENT | SCOTT
KIM | ANDREW | HWAN
KIM | GA-YEON |
KIM | KAY |
KIM | MINGEE | CHRISTINE
KING | BRYAN | DALY
KIRK | SONDRA | POWERS
KIRK | TYLER | VAUGHAN
KIRSCHBAUM | ANNE | B.
KIRSCHNER | ELENA | TERESA
KISSOON | JANICE | GWEN
KISTLER | JOSHUA | JEREMY
KLEIMAN | SIMCHA | JOSEPH
KLIEMS | UTE | BEATE
KNAPSTEIN | URSULA | ANN BRIGITTE
KO | JOHN | SHIH KWONG
KO | SOEN | CHYI
KOBAYASHI | YU |
KOELEWYN | PEARL | ZALTZMAN
KOGITZ | STEPHAN |
KOK | HAICO | VICTOR
KOMOROWSKI | COLEEN | KATHRYN DORIS
KOONMEN | JOHN | MICHAEL
KOUTOULAKIS MERCHADOU | KALLIOPI |
KOYKKA | MIKKO | JUHO MATIAS
KRAMER | JOANNE | LOUISE
KRAMER | JULIE | CHRISTINE
KREINER | ANDREAS | FRIEDRICH
KREMPL | RALPH | DIETER
KRIDLE | TEKLA | JOAN
KRIDLE | WILLIAM | LEO
KROIS | GEORGE | WILLIAM
KRUPS | JULIA |
KUEPPERS | KIRSTEN |
KUIKEN | DONALD | LEE
KUIPERS | STEPHEN | JOHN
KUMMROW | MICHELE | ANNE
KUMPIS | RICHARD | JAMES
KUO | SHARON |
KURMANN | ALEXA | LAUREN
KUTRZEBA | MARCUS | F.
KWAN | MELISSA | RACHEL KA-LING
KWAN | PHOEBE | ONGMAN
LA BELLA | JENNIFER | MCDOWELL
LAFON | BRENDA |
LAI | FRANCES | CHI WING
LAM | CLARENCE | CHAD
LAMMOGLIA | JULIEN | JEAN
LAMONTAGNE | MARC | DENIS
LANCLUME | NATHALIE | FRANCOISE
LANDAU | RIKKI | ERIN
LANDTWING | VANESSA | SONJA
LARBES | MAX | ALI
LARSEN | WILLIAM | ANDRE
LARSON | REBECCA | SUSANNE
LARSON | STEPHEN | MARK
LAU | SAMSON | SIN SAM
LAURIE | SHERRY | LEE
LAVIN | HELEN | MARIE
LAWSON | ROBERT | DIRK
LAWTON | AIMEE | ROZE
LAX | GLORIA | M.
LAZARO-JOUBERT | MICHELLE | MARIE A.
LEE | JASON | TYLER
LEE | JENNIFER | ANN
LEE | KELLY |
LEE | KERN | TZEN
LEE | RAYMOND |
LEEK | JONATHON | NIGEL
LEGER | TIFFANY | THAISA
LESLAU | JONAH | ETHAN
LESTER | MARGARET | HELEN
LEU | KATJA | MARIA
LEVY | ROBERT | ALEXANDER
LI | FAYE | TSUI
LI | JONATHAN | HO MING
LI | XIAODAN |
LIANG | NICOLE | JEANNIE
LIAO | FLORA | VALERIE
LICARI | GABRIELLA | SABRINA
LIEW | FONG | TING
LILJEDAHL | ULLA | MONIKA
LIM | CAROL | MARIE
LIM | MING-EN | JOSHUA
LIN | CHIN | CHUCH
LIN | JEFFREY |
LIN | LAWRENCE |
LIN | ROBERT |
LINDHOLM-VENTOLA | JONNA | KATARIINA
LIU | WILLIAM |
LIU | YUCHANG |
LIUKSIALA | HENRI | KRISTIAN
LOEFS MOS | JOHANNA | GEERTRUIDA HENDRIKA
LOGAN | LISA | MICHELLE
LOH | SAMMY | KHIN YEE
LOIRE | BERNADETTE | MICHELLE
LONG | GINA | MARIA
LOPERT | MICHELLE | DIANE
LORAN | CAROL-LEAH | CECELIA
LORCH | AMNON |
LOWELL | ALEXANDER |
LUANGAROONLERD | WEERACHAI |
LUNDSTROM | DENISE | JO
LYNCH | CATHAL |
LYNCH | MARY | MARTHA
LYON | KEITH | ANDERSON
MACGREGOR WILLIAMSON | ALEXANDER | JAMES
MACKENZIE | JOANNA | ELIZABETH
MACKENZIE-THOMPSON | ANNE | MARIE
MACKEY | JESSICA | ELLEN
MADON | SAVAK |
MAERCKER | MATTHIAS |
MAGEE | JAMES | BRUCE
MAGUIRE | AIVEEN | MARY TREACY
MAHONEY | KEVIN | GENE
MALVANKAR | SANJAY |
MANELIA | LOUISE | ANN
MANGUM | DEAN | SCOTT
MANNING | HARVEY | PAUL
MARANTZ | VALERIE |
MARGOLIS | REBECCA | SUE HELLER
MARK | GRAHAM | DAVID
MARKOSKY | WENDY | LYNN
MAROZEAU | JEREMY | PAUL
MARTIN | ARABELLA | PRESCOTT
MARTIN | CHARLES | WILLIAM
MARTIN | MARGARET | MACLEAN
MARTINEZ | DESIREE | B.
MARTINS | KYENTA | MEAGEN
MASTAI | ANDREAS | MICHAEL
MATHYS | FLORIAN | EMANUEL
MAUSBERG | STEVEN | JASON
MAUTNER MARKHOF | ANNA | MARIE
MAY | CATHERINE | ANNE
MAYR | MARIE | LOUISE
MC CALL | DEBORAH | SUSANNE
MC CLARAN | JACQUELINE | COX
MC CORMACK | KIERAN | GERARD
MC DERMOTT | SEBASTIAN | CHARLES AUGUSTE
MC LANDRESS | CHARLES | WALLACE
MC LEAN | DEBRA | LUCILE
MC NAMARA | MIALL | PATRICK
MC SORLEY | PATRICK | LYNE
MCDOUGALL | TRACIE | DIANE
MCGUINNESS | AUDREY | JANE
MCGUIRE VISSER | CHRISTENE |
MCNEICE | LAURA | JANINE
MCNEICE | SHANNON | MARIE
MCRAE | THALIA | MURRAY
MEANS | GARY | LEE
MEHROTRA | SATYAVRAT |
MEIJBOOM | BARTJE | INGRID
MELLIARD-MOREL | ELIZABETH | FERNANDE
MELVILLE | GAILE | ANNE
METZGER | BENYAMIN | YEDIDIA
MEUWESE | MARK | THEO
MEYER | ILAN | SAUL
MICHAUD | ISABELLE |
MICHAUD | NATHALIE |
MILLER | AVRUM | JONATHON
MILLS | NATALIE | MARIE-JOANNA
MILLS | SUSAN | PATRICIA
MINDEN | ANDREA | LYN
MINDEN | DEWI | KATHRYN SUZANNE
MISSELBROOK | LINDA | BLOCK
MITCHELL | RORY | LYLE CAMPBELL
MITSUI | MASAE |
MIZOKAMI | TSUBASA | DAVID
MO | FREDERICK | YIU-SING
MOCHIDA | MASAYUKI |
MOCHIZUKI | KATSURA |
MOCHKIN | PERETZ | SHLOMO
MOK | ADRIANA | YUEN YING
MOLSTER | FIEKE | HELLEEN
MOLYNEUX KNISPEL | ANNE | BETH
MONTGOMERY | MARGARET | ELIZABETH
MOORE | ELIZABETH | JANE
MOORE | MADYSON | ERICA
MOREAU | KYLE | ARTHUR
MORIKAWA | TOMOKO |
MORRIS | THOMAS | RICHARD
MORRISON | GILLIAN | KER
MORRISON | REBECCA | SUSAN
MORRISON | RICHARD | JAY
MOSER | MICHELLE | SARA BAGGI
MOSS | MITCHELL | LYLE
MOTAKIS | IAKOVOS |
MOTTAHED | BAYAN |
MUENGER | CAROL | BARBARA AMERKI
MUHR | OLIVER |
MUKATY | ZAIN | ASHRAF
MULARONI | CONRAD | P.
MULARONI | MARGARET |
MUMENTHALER | FRANZISKA | JENNIFER
MUNCH-HANSEN | LISE |
MURPHY | MARGARET | REGINA
MUSSON | DONALD | ROBERTSON
MYER | LESLIE | DARLENE
MYHRE | SALLY | LAVONNE
NAEGELI | PAMELA |
NAGAYASU | EIJI |
NAGL | KRISTOF | ODO
NAKAJIMA | ALBERT | AKIRA
NAKAMURA | YUKI |
NAROD | SAUL | BRIAN BARRY
NARUSE | JUNKO |
NARUSE | YASUO |
NASH | CATHY | ANN
NAUMANN | DAVID | NATHANIEL
NEARY | SARAH | ELIZABETH VON FELBAU
NEFSKY | BARI | NICOLE BUDD
NESTIBO | BRENDA | SUE
NEUHAUS | RALPH |
NG | ROSE | KAI CHING
NIELSEN | CHARLES | EMIL FINN
NIEUWENHUIS | MAARTJE | JOANNA
NIGGEBRUEGGE | JENS |
NILAND | ADAM | CHARLES
NILERT | HENRY | TORE
NIMJI | ZARINE |
NIZAMI | FARIDA | YASMIN
NORDBERG | REBECCA | CECILIA
NORRIS-NICHOLAS | DAVID | GRAHAM
NOTERDAEME | OLIVIER | A.P.J.J.
OBERMEIER | KIMBERLY | ANNE BEARD
O'BRIEN | CAREY | MARIE
O'CONNOR | JOSEPH | ANTHONY
OECHSLIN | NOEMIE | TARA
OEFELI | ROBERT | MARKUS
OEHRI | EVELYNE | SARAH
OFFENBACKER | STEPHEN | PHILLIP
OFIR | LEORA |
OGAWA | YUJI |
OGRADY | JILLIAN | MORGAN
OKI | MICHIE |
OKI | TSUYOSHI |
OKUBO | SATOSHI |
OLSON | CAROL | LOUISE
OLSON | JOSHUA | PAUL
O'NEILL | SIOBHAN | AGNES TREACY
ONO | RANKO | FLORA
OPPEN | EVAN | FREDERICK
ORPAZ | LEIGH |
OTA | TSUYOSHI | THOMAS
OVAERT | LAURENT |
OVASKA | SAMI-SEPPO | CHRISTOPHER
OWEN | TRISTAN | LLEWELLYN
OWENS | ERIC | OLINDER LYTLE
OXLAND | EMILY | CHRISTINE
PAAUWE | FREDERIK | CAREL
PACKER | FREDRICK | JOHN
PALMER | MEGAN | ELIZABETH
PALMETTO | ERIK | THOMAS
PANG | SIOK | CHOO NICHOLETTE
PARKES | JORDAN | RICHARD
PASCAL | MARIA | MAGDALENA
PAULSEN | KRISTINE | FREDINE
PEIRCE | JULIA | NORTON
PENTAREDDY | SANDHYA | RANI
PERETTI | PABLO | MIGUEL
PERRY | MICHELE | ANDREE
PETER | VIRGINIE | GISELE
PETERSON | AUBREY | LYNN
PETERSON | DONALD | JAY
PETERSON | NANCY | ANN
PETERSON | PAUL | ARTHUR
PETITPAS | CATHY-ANN | EVELYN
PETTY | RUTH | TIFFANY
PFENNINGER | JACQUELINE | DORA
PIAGET | CLAUDINE | COLETTE
PIEPLOW | MONICA |
PIERARD | AGNES | MARIE
PIETSCH | ERICA | ABBEY
PINCUS | DANIEL | JAMES
PITKANEN | TUULIKKI | TELLERVO
PLAATSMAN | PAUL | JACOB
PLANCHADELL MARTI | LAURA |
PLESS | PATRICIA | REGINA
PLOTKIN | JULIE | SARAH
PLOTKIN | RACHEL | JILL
POLLAK | KAREN | JOY
PONSTEIN | ELISE |
POO | MUMING |
POPOVE | MYRNA | ILENE
PORTER | MELISSA | JANE
POSSEK | VERONIKA | YURIEVNA
POUPARD | CLARISSE | ALINE MARIE
POWERS | RICHARD | LEE
PREIS | JEANETTE |
PUCHIR | LINDA | ELAINE
PUNIA | KULJIY | SINGH
PUNTENEY | RONALD | DEAN
PUNTENEY | SOPHIA | RACHEL
QUAIL | JACQUELINE | MARY
QUANGTAKOUNE | ANNIE |
QUICK | JEREMY | ANDRE
QUINTER | REMY | ANDREW
QUINTILIO | LAURA | EILEEN
RABINOWICZ | MICHAEL | SETH
RAETZKE | CHRISTIAN | PETER
RAMANATHAN | S. |
RANCOURT | HILARY | MEREDITH SCHWEISSING
RATNER | JOSHUA | NATHANIEL
RAY | COLIN | SHAWN
READ | JUDITH | ANN
REED | DEMIAN |
REHNER | ALAN | LOWELL
RENOLD | MARC-ANDRE | JEAN
RETEZATU | ILIE |
REVEL | SAMUEL | TSEVI
REVILLON | OLIVIER | PAUL
REY-CUILLE | MARIE-ANNE |
RIDDELL | REBECCA | MARIA
RIEDER | MARTIN | BRUNO
RINEHART | APRIL | CHER
ROBBINS | SENIA | LIAN-LU
ROBERTS | JAMES | HAWKINS
ROBERTSON | DALE |
ROBERTSON | DIANE | MARRI
ROBINSON | BOYD | C.
ROETERINK | CASPER | ALLARD
ROMBAUT | BENOIT | PIERRE
ROSANOVE | HELENE | ANDREA
ROSELAND | MARK | LESTER
ROSENFELD | ADAM | LEE
ROSMAN | ETIENNE | FRANCOIS
ROSS | HEATHER | CHRISTINE
ROSSIGNOL | VICTOIRE | MARIE
ROTHKOFF | ZEV | MOSHE
ROUNIS | ANNA | LOUISE
ROWE | BRONWEN | MARGARET
ROY | FRANCE | LINDA
ROY | NOEL | MICHEL
ROZEBOOM | CYNTHIA | LOUISE
RUEBSAMEN | MATTHIAS | HEINZ
RUEGG | KASPAR | RICHARD
RUETSCHI | MATHILDE | JOSEPHINE
RUETSCHI | YANN | JOE
RUFFO | EDOARDO | GUGLIELMO
RUSHWORTH | LINDA | MAE
RUSZ | ALAN |
RYAN | KATHLEEN | NESHKA
RYAN | MARY | ANNE
RYAN | SHINOBU |
SAARINEN | MARIA | KAROLIINA
SAARNI | RUNA | CHRISTINA
SABOROWSKI | ANGELA | MARIE
SACHS | MAXIMILIAN | STEFFEN HANS
SAHLSTEDT | JORMA |
SAHLSTEDT | LEILA |
SAINATHAN | PREMSAI |
SAITO | YUSUKE |
SAKAI | RYOSUKE | EDWARD
SALDEN | GEORGE | STEFFEN
SALMANOWITZ | RICHARD | SAMUEL
SALSKY | MARNIE | ELLEN
SALVESEN | EMILIE | MARIA
SALZBERG | CHRISTOPHER | PIETER
SANDBERG | FREDRIK |
SANDMAN | HANOCH | ELIEZER
SANT | CLAIRE | ELEANOR
SANTI | KATHY | DEBBY
SARKARIA | GAGANDEEP | SINGH
SARR | PATRICIA | ACKERMAN
SASAHIRA | TOSHIHIKO |
SATO | ATSUSHI |
SATO | YOSUKE |
SAWADA | HISAE |
SCHACHTER | GABRIEL | ANGEL MISHA
SCHAER | JULIE | CHARLOTTE
SCHAFFNER | CHRISTINA | EVA
SCHELLER | PETER | CHRISTIAN
SCHELLER | PHILIP | ALAN
SCHERF | MICHELE | C.
SCHMID | MARTIN | CHRISTIAN
SCHMIDT | NINA | LOUISE
SCHNEEWEISS | WOLFRAM | KARL SIEGFRIED
SCHNEIDER | MARK | ANDREAS
SCHOBERG | MERRY | CAROL HERRICK
SCHOEBEL | GUILLAUME | PAUL-MARIE
SCHOERNER | WOLFGANG | HENRY
SEAY | JILL | PRINCE
SEAY JR | WILLIAM | MICHAEL
SEBENS | SABRINA | HEIDE
SERRA | TANIA | EUNICE
SGUAZZINI | MARINA | MARGHERITA
SHAH | AMI | SUKETU
SHARMA | ROBYN | SHEELA
SHEA | DIANE | ELIZABETH
SHEARING | PHILIP | A.
SHEARING | RACHEL | G.
SHEARING | RUBY | G.
SHELY | GIL |
SHERWOOD | JOHN | EVAN
SHIBAHARA | BARBARA |
SHIELDS | HENRIETTA | OLIVIA
SHIFF | ALLAN | ALEXANDER
SHIINO | EMI | LISA
SHIMIZU | HARUKI |
SHINOHARA | MINORU |
SIDDALL | CAROLINE | EMILIE
SILVERMAN | NOAH | ERIC
SIMAN-TOV | YORAM |
SIMARD | REBECCA | ANN
SIMMONDS | IAN | PAUL
SIMPSON | ANNE | TURNER
SINK | JOHN | ALLEN
SKIDMORE | LOUISE | MARGARET
SKIFFINGTON | JANICE | CATHERINE
SMART | DARLENE | JOY
SMITH | BEVERLY | NAN
SMITH | HANNAH | JOSEPHINE
SMITH | NICOLE | KATHLEEN
SMITH | SUSAN | ELIZABETH
SNIPES-HOYT | CAROLYN | MARIE
SODERLING | MICHAEL | TOIVO JOHAN
SOELBERG | CARL | FREDERIK
SOH | ROMAINE | RUI-MIN
SONG | WILLIAM | TZYY-WEI
SONG | XIAOBING |
SONIDO | F. | JOSEPH
SONNEVILLE | FRANCOIS | PIERRE
SONO | JANET | JENSEN
SOO | DONALD | YEAW TECK
SOO | RONNY | ARTHUR
SOUTHWELL | DIANA | MARY
SPAULDING | GABRIELE |
SPENCE | ALEXANDER | J.
SPENCE | DIANE | GEORGE
SPENCE | JOHN | BRIAN
SPENCER | ERIK | WILLIAM
SPITZNAGEL | TINA | CLARA
ST DENIS | DIANE | LENETTA
ST ONGE | SUSAN | MARIE
STAUFFER | JUERG | MICHAEL
STEIN | ERIC | SAMUEL GEORGE
STEINER | BETTINA | GOY
STEUERWALD | STEFAN | MANFRED
STEWART | CAMMY | JEAN
STEWART | SHANE | ARTHUR
STONE | BRIAN | GORDON
STREET | MARGERY | MORE
STROOSNYDER | PAULINA | MARIA
STUDER | ANDREA | LEE
STUTLER | IZUMI | ALISSA
STUTLER | JOSIAH | THOMAS
SUEHIRO | KANJI |
SUMMERMATTER | JEAN | MARY
SUMOMOGI | NORIKO |
SUMOMOGI | NORIO |
SUNDARARAJU | SINDUJA |
SUNG | ERIC |
SUTTER | BRANDON | CHASE
SYNCHYSHYN | RACHEL | ELIZABETH
SZUBERWOOD | BRIAN | CHRISTOPHER
TABBARA | MARYA |
TABBARA | RAMSEY |
TAHIR | AASIYA |
TAKAHASHI | MOTOKI |
TAN | LYNETTE | CHIU KUAN
TAN | ZHENGPING |
TANG | GENIE | KA-LING
TANG | JASON | CHIA-HUNG
TANG | PAUL | MINGZHENG
TANI | MASAYUKI | RICHARD
TANISHIMA | MITSURU |
TANISHIMA | YUKO |
TANZER PETERS | BARBARA | FREDERIEKE
TAO | BEN | NIEN
TAUB | RACHEL |
TENG | JACK |
TEUTBERG | TILMAN | FRIEDRICH KARL
THALER | LEN | DAVID VALENTIN
THALIN | MARSHA | BETH
THALMANN | GUYSLAINE | AIMEE
THEE | AARON | ZVI
THOMAN | MARINA | ANGELA
THOMPSON | MEREDITH | JANE
THRASHER | ALAN | ROBERT
THURNER | CARSTEN | JOACHIM
TOBLER | PETER | RUDOLF
TOLLENAAR | ELTJE | FREDERIKA
TOM | ALLISON | READ
TONG | THOMAS |
TOPFER | EVELYNE |
TORABI | SOHRAB |
TOWSLEY | KAREN | GODFREY
TOYODA | MITSUHIRO |
TROTTER | KAREN | KWEI-AI
TROTTIER | THOMAS | EUGENE
TRUTMANN | OLIVER | ALBET TIARE-URA
TSATURYAN | SEVAK |
TSERETOPOULOS | DENISIA | KATHERINE
TSURUGA | KANAE |
TUCHSCHMID | GILLES | GRAVES
TURANEC | ESTHER | FURRER
TURANEC | IVAN |
TURCOTTE | MIREILLE |
TURKI | SULTAN | MOHAMED
UDLAND | NORMAN |
UJAIMI | HATTAN | KHALED
UMARI | ABDUL-WAHAB |
UTSUGISAWA | MAY |
VAGGE | SYLVIA | DARIA SCHIELE
VALENCA | CAROLINA | FALCAO
VAN DE GRIENDT | MONIQUE | PATRICIA
VAN DER BENT | ELISABETH | ANNE
VAN DER VEEN | JORRIT | FRISCO
VAN DER VEEN | PETRONELLA | ADRIANA
VAN DER VORST | DIEDERIK | LOUIS
VAN EE | NIKKI |
VAN GENT | PETER | GEORGE
VAN HOF | RALPH | EDWARD
VAN KOOTEN-VAN DER MEULEN | IRENE | HELEN
VAN RIEMSDIJK | FRANCOISE | MICHELINE
VAN WERT | ROBERT | SELKIRK
VANCE | DENNIS | EDWARD
VANDELOO | JULIE |
VEIT, JR | WILBERT | GEORGE
VER | ROGER | KEITH
VER | ROGER | KEITH
VERMEER | DERK | JAN BRIAN
VIDA | ARIEL |
VIKTORSSON | GREGORY | SCOTT
VILJANEN | MARKUS | JUHANI
VILLEGAS | JOSE | A.
VINCENT | JOANNE | MARIE
VIRSUNEN | GERALDINE | LOVE
VISSER BLOMBERG | RITA | HENDRINA
VON GYMNICH | MAX-DOMINIC | GRAF BEISSEL
VON LERCHENFELD | ALICE | ISABEL FREIFRAU
VON MALAPERT-NEUFVILLE | STEPHEN | JOHANNES FREIHERR
VOOGT | DARSHAM | EVA
VRANA | MICHEL | PETER
VRIESMAN | ADRIAN | CORNELIUS VAN BREDA
WAHL | STANLEY | CLAUDE
WAKS | KATHARINE | LAUREN
WALDRAM | SALLY | CANDISS
WALLER | PAUL | MICHAEL
WALLMAN | STEPHEN | JAY
WALSH | CLAIRE | ANNE
WALTER | PHILIP | GEORGE
WALTI | CHARLOTTE | SOPHIA
WARREN | JONATHON | PHILLIP
WASHIO | TAKASHI | ROBERT
WATTERS | GREGOR | ANTON RANDALL HARTL
WAYGOOD | KAZUMI |
WEBER | BRUCE | HOWARD
WEEDON | CAROLINE | J.
WEENINK | LOUISE | MARTINA
WEI | HANG |
WEIL | PETER | ALAN
WEISEL | CHARLENE | ANN
WEISSMAN | IRA | BROOKOFF.
WENTZ | JED | ALAN
WESTERMARK | ULF | ROLAND
WHEELER-CARLSSON | TRACY | KRISTINE
WHELAN | TERRENCE | JOSEPH
WHITE | STEPHANIE | FRANCES
WHITMORE | CHRISTOPHER | CLAY
WIEBE | PATRICIA | ANN
WILLEMS | ANNAMARIE |
WILLIS | SAMUEL | WILLIAM WYTHES
WILSON | RICHARD | LESLIE
WINE | DEVAH | IRENE
WINEHOUSE | JANIS | HOLLY
WINKLER | JENS | STEFFEN
WINTELER | MICHAEL | CURT
WINTELER | SANDRA |
WITZEL | THOMAS | JOSEF
WONG | CHRISTINA | MARIA MEI LIN
WONG | DANIEL | CHIU
WONG | ERICK |
WONG | JASON | CHI SING
WONG | RACHEL | JING YI
WONG | SONGKAI | GIDEON
WOO | REBECCA | HENG YUN
WOOD | EUAN | D.
WOOD | JEAN | MARIE
WOODWARD | DUSTIN |
WOOLDRIDGE | REBECCA | MARY
WRAY | KENNETH |
WU | KRISTY | AIHSUAN
WU | YAN |
WYNER | HAL | OWEN
YAMAGUCHI | MASAHIKO | JUN
YAMANAKA | SHUNICHI | BRYAN
YAN | DAPENG |
YANG | ERICA | CHUEH-YU
YANG | SHUN | MEI
YANIR | TOMER |
YAP | JONATHAN | MARC
YASUNO | ATSUKO |
YASUNO | SHIRO |
YEKIMENKOV | SERGEY | ALEKSANDROVICH
YEKIMENKOVA | IRINA | ALEKSANDROVNA
YEN | STEPHEN | PO-HSUAN
YEO | KRISTIN | ALANNA KOERNER
YEUNG | CHUN | MAN DAVID
YI | RUSSELL |
YIN | ELAINE |
YIN | HAIQING |
YIP | MICHELLE | SHI YUN
YLAGAN | CARLO | ANTONIO
YOSHIDA | MICHIKO |
YU | CARY | KA-MEI
YUM | EDWARD | LIANG
ZACK | LAWRENCE | MARK
ZAMPIER HENDERSON | LISA | MARIE
ZANOTTO | VIKKI-ANNE |
ZEE | ADRIAN | DAR HENG
ZEITMAN | LUKAS | RAPHAEL
ZHANG | BARBARA | PEI WEN
ZHANG | JASON | YANG
ZHENG | LING |
ZIADEH | MARIANA | BASSEM
ZIMMERMAN | JOANNE |
ZOGG | DAVID | ALEXANDER
ZUIDHOF | JANET | MARGUERITE

Dated: April 26, 2018.
Diane Costello,
Manager Classification Team 82413, Examinations Operations—Philadelphia Compliance Services.

[FR Doc. 2018-09709 Filed 5-7-18; 8:45 am]

BILLING CODE 4830-01-P